DEPARTMENT OF HEALTH AND HUMAN SERVICES

National Institutes of Health

Proposed Collection; Comment Request; National Center for Complementary and Alternative Medicine Office of Communications and Public Liaison Communications Program Planning and Evaluation

SUMMARY: Under the provisions of section 3507(a)(1)(D) of the Paperwork Reduction Act of 1995, the National Center for Complementary and Alternative Medicine (NCCAM), the National Institutes of Health (NIH), will submit to the Office of Management and Budget (OMB) a request for review and approval of the information collection listed below. A notice of this proposed information collection was previously published in the Federal Register on September 12, 2003, page 53743, and allowed 60 days for public comment. In response to the notice, NCCAM received one request to learn more about the overall evaluation plans. The purpose of this notice is to announce a final 30 days for public comment. NIH may not conduct or sponsor, and the respondent is not required to respond to, an information collection that has been extended, revised, or implemented on or after October 1, 1995, unless it displays a currently valid OMB control number.

Proposed Collection

Title: NCCAM Office of Communications and Public Liaison Communications Programs Planning and Evaluation. Type of Information Collection Request: New. Need and Use of Information Collection: NCCAM provides the public, patients, families, health care providers, complementary and alternative medicine (CAM) practitioners, and other with the latest scientifically based information on CAM and information about NCCAM's programs through a variety of channels. NCCAM requests permission to collect data from individuals and organizations in order to conduct (1) Formative research and (2) evaluation of activities, using both qualitative and quantitative methods. OCPL communications goals include raising awareness of issues unique to CAM so that consumers and health care providers can make better, more informed decisions, and establishing NCCAM as the source for credible, authoritative CAM information. The response data collected under this generic clearance will be used to improve communication activities through (1) Identifying key audiences, (2) developing program plans to meet the needs of diverse audiences, (3) developing messages and evaluating how well they resonate with intended audiences, and (4) evaluating how well communications program reach their intended audiences. Frequency of Response: Periodically or as needed. Affected Public: Individuals and households; nonprofit institutions; Federal government; State, local, or tribal government. Type of Respondents: Members of the public, health care professionals, representatives of organizations. The annual reporting burden is as follows. Estimated Number of Respondents: 2,440. Estimated Number of Responses per Respondent: 1; Average Burden Hours per Response: 0.29. Estimated Annual Total Burden Hours Requested: 713. There are no capital costs, operating costs, or maintenance costs to report.

Request for Comments: Written comments and/or suggestions from the public and affected agencies are invited on the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the Office of Management and Budget, Office of Regulatory Affairs, New Executive Office Building, Room 10235, Washington, DC 20503, Attention: Desk Officer for NIH. To request more information on the proposed project or to obtain a copy of the data collection plans and instruments, contact: Christy Thomsen, Director, Office of Communications and Public Liaison, NCCAM, 6707 Democracy Boulevard, Suite 401, Bethesda, MD 20892-5475; or fax your request to 301-480-3519; or e-mail thomsenc@mail.nih.gov. Ms. Thomsen can be contacted by telephone at 301-451-8876.

Comments Due Date: Comments regarding this information collection are best assured of having their full effect if received within 30 days of the date of this publication.

Dated: March 4, 2004.
Christy Thomsen,
Director, Office of Communications and Public Liaison, National Center for Complementary and Alternative Medicine, National Institutes of Health.

[FR Doc. 04-5505 Filed 3-10-04; 8:45 am]

BILLING CODE 4140-01-M